ENVIRONMENTAL PROTECTION AGENCY

40 CFR Part 52

[EPA-R05-OAR-2016-0321; FRL-10016-33-Region 5]

Air Plan Approval; Michigan; Partial Approval and Partial Disapproval of the Detroit SO2 Nonattainment Area Plan

AGENCY: Environmental Protection Agency (EPA).

ACTION: Proposed rule; reopening of the comment period.

SUMMARY: The Environmental Protection Agency (EPA) is reopening the comment period for a proposed revision to the Michigan State Implementation Plan (SIP) published September 18, 2020. Sierra Club requested additional time to provide comments; therefore, EPA is reopening the comment period for 28 days from the close of the previous comment period.

DATES: The comment period for the proposed rule published on September 18, 2020 (85 FR 58315), is reopened. Comments must be received on or before November 16, 2020.

ADDRESSES: Submit your comments, identified by Docket ID No. EPA-R05-OAR-2016-0321 at http://www.regulations.gov, or via email to Aburano.Douglas@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Sarah Arra, Environmental Scientist, Attainment Planning and Maintenance Section, Air Programs Branch (AR-18J), Environmental Protection Agency, Region 5, 77 West Jackson Boulevard, Chicago, Illinois 60604, (312) 886-9401, Arra.Sarah@epa.gov. The EPA Region 5 office is open from 8:30 a.m. to 4:30 p.m., Monday through Friday, excluding Federal holidays and facility closures due to COVID 19.

SUPPLEMENTARY INFORMATION: On September 18, 2020 (85 FR 58315), EPA proposed to partially approve and partially disapprove a revision to the Michigan SIP for attaining the 2010 1-hour primary sulfur dioxide (SO2) national ambient air quality standard (NAAQS) for the Detroit SO2 nonattainment area. This SIP revision includes Michigan's attainment demonstration and other elements required under the Clean Air Act (CAA). EPA proposed to approve the base year emissions inventory, and to affirm that the nonattainment new source review requirements for the area have been met. EPA proposed to disapprove the attainment demonstration, as well as the requirements for meeting reasonable further progress toward attainment of the NAAQS, reasonably available control measures and reasonably available control technology, and contingency measures. Finally, EPA proposed to disapprove the plan's control measures for two facilities as not demonstrating attainment, and proposed to approve the enforceable control measures for two facilities as SIP strengthening. The comment period closed on October 19, 2020. On October 9, 2020, EPA received a request from the Sierra Club to extend the comment period for four weeks from the end of the comment period.

Dated: November 2, 2020.
Kurt Thiede,
Regional Administrator, Region 5.

[FR Doc. 2020-24759 Filed 11-5-20; 8:45 am]

BILLING CODE 6560-50-P